DEPARTMENT OF DEFENSE

Department of the Air Force

Notice of Intent to an Exclusive Patent License

AGENCY: Office of Research and Technology Application.

ACTION: Notice of intent.

SUMMARY: Pursuant to the provisions of Part 404 of Title 37, Code of Federal Regulations, which implements Public Law 96-517, as amended, the Department of the Air Force announces its intention to grant an exclusive license in favor of Roccor, LLC, having a place of business at 2602 Clover Basin Drive, Suite D, Longmont, CO 80301 in any right, title, and interest the Air Force has in the following patents:

U.S. Patent No. 7,895,795, issued 1 March 2011, titled “Triangular rollable and collapsible boom,” by Thomas W. Murphey et al.

U.S. Patent No. 8,356,774, issued 22 January 2013, titled “Structure for storing and unfurling material,” by Jeremy A. Banik et al.

U.S. Patent No. 7,354,033, issued 8 April 2008, titled “Tape-spring deployable hinge,” by Thomas W. Murphey et al.

U.S. Patent No. 7,435,032, issued 14 October 2008, titled “Resilient joint for deployable structures,” by Thomas W. Murphey et al.

U.S. Patent No. 8,462,078, issued 11 June 2013, titled “Deployable shell with wrapped gores,” by Thomas W. Murphey et al.

U.S. Patent No. 8,434,196, issued 7 May 2013, titled “Multi-axis compliant hinge,” by Thomas W. Murphey et al.

SUPPLEMENTARY INFORMATION: For an objection to the prospective license to be considered, it must be submitted in writing and be received at the following address within fifteen (15) days from the date of publication of this Notice. Written objection should be sent to: James M. Skorich, Esq. 2251 Maxwell Street SE., 377th AFNWC/JAN, Kirtland AFB NM 87117. Phone: (505) 846-5172.

Henry Williams,
Acting Air Force Federal Register Liaison Officer.

[FR Doc. 2016-15953 Filed 7-5-16; 8:45 am]

BILLING CODE 5001-10-P